DEPARTMENT OF HOMELAND SECURITY

Office of the Chief Procurement Officer; Submission for Review; Information Collection Request for Various Contract Related Forms and Regulation on Agency Protests

AGENCY: Office of the Chief Procurement Officer, DHS.

ACTION: Notice; 30-day notice of information collections under review: Various contract related forms and Regulation on Agency Protests, OMB Control Number 1600-0002 and 1600-0004.

SUMMARY: The Department of Homeland Security (DHS) will submit the following proposed information collection request (ICR) to the Office of Management and Budget (OMB) for review and clearance in accordance with the Paperwork Reduction Act of 1995: 1600-0002 and 1600-0004. The information collection was previously published in the Federal Register on August 23, 2007, at 72 FR 48289-48291, allowing for OMB review and a 60-day public comment period. No comments were received by DHS. The purpose of this notice is to allow an additional 30 days for public comments.

DATES: Comments are encouraged and will be accepted until January 16, 2008. This process is conducted in accordance with 5 CFR 1320.10.

ADDRESSES: Interested persons are invited to submit written comments on the proposed information collection to the Office of Information and Regulatory Affairs, Office of Management and Budget. Comments should be addressed to Nathan Lesser, Desk Officer, Department of Homeland Security [Office of the Chief Procurement Officer], and sent via electronic mail to oira_submission@omb.eop.gov or faxed to (202) 395-6974.

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

FOR FURTHER INFORMATION CONTACT: A copy of this ICR, with applicable supporting documentation, may be obtained by calling Kathy Strouss, Office of the Chief Procurement Officer, Department of Homeland Security, Washington, DC 20528; telephone (202) 447-5300 (this is not a toll free number).

SUPPLEMENTARY INFORMATION:

Analysis

Agency: Department of Homeland Security, Office of the Chief Procurement Officer, Acquisition Policy and Legislation.

Title: Various contract related forms (DHS Forms 0700-01 through 0700-04).

OMB No.: 1600-0002.

Frequency: On occasion.

Affected Public: Businesses or other for profits and individuals and households.

Estimated Number of Respondents: 7,101 respondents.

Estimated Time Per Respondent: 1 hour per response.

Total Burden Hours: 7,101.

Total Burden Cost: (capital/startup): None.

Total Burden Cost: (operating/maintaining): None.

Description: The DHS, Office of the Chief Procurement Officer requires a renewal of an existing OMB Control Number 1600-0002 granted in September 2004 on these four acquisition forms. The information collections under the Homeland Security Acquisition Regulation (HSAR) are necessary in order to implement applicable parts of the Federal Acquisition Regulation (FAR) for administering public contracts for supplies and services.

Analysis

Agency: Department of Homeland Security, Office of the Chief Procurement Officer, Acquisition Policy and Legislation.

Title: Regulation on Agency Protests.

OMB No.: 1600-0004.

Frequency: On occasion.

Affected Public: Businesses or other for profits and individuals and households.

Estimated Number of Respondents: 50 respondents.

Estimated Time Per Respondent: 2 hours per response.

Total Burden Hours: 100 hours.

Total Burden Cost: (capital/startup): None.

Total Burden Cost: (operating/maintaining): None.

Description: The DHS, Office of the Chief Procurement Officer requires a renewal of an existing OMB Control Number 1600-0004, granted in September 2004 for the regulation on agency protests. The information is requested from contractors so that the Government will be able to evaluate protests effectively and provide prompt resolution of issues in dispute when contractors file agency level protests.

Scott Charbo,
Chief Information Officer.

[FR Doc. E7-24295 Filed 12-14-07; 8:45 am]

BILLING CODE 4410-10-P